DEPARTMENT OF HOUSING AND URBAN DEVELOPMENT

[Docket No. FR-5601-N-11]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 708-1234; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Division of Property Management, Program Support Center, HHS, room 5B-17, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Mark Johnston at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Air Force: Mr. Robert Moore, Air Force Real Property Agency, 143 Billy Mitchell Blvd., San Antonio, TX 78226, (210) 925-3047; GSA: Mr. John Smith, Acting Deputy Assistant Commissioner, General Services Administration, Office of Property Disposal, 18th & F Streets NW., Washington, DC 20405; (202) 501-0084; Interior: Mr. Michael Wright, Acquisition & Property Management, Department of the Interior, 1801 Pennsylvania Ave. NW., 4th Floor, Washington, DC 20006: 202-254-5522; Navy: Mr. Steve Matteo, Department of the Navy, Asset Management Division, Naval Facilities Engineering Command, Washington Navy Yard, 1330 Patterson Ave. SW., Suite 1000, Washington, DC 20374; (202) 685-9426 (These are not toll-free numbers.)

Dated: March 8, 2012.
Mark R. Johnston,
Deputy Assistant Secretary for Special Needs.

TITLE V, FEDERAL SURPLUS PROPERTY PROGRAM FEDERAL REGISTER REPORT FOR 03/16/2012

Suitable Available Properties

Building

Maryland

3 Bldgs.

Residential Dwellings

Cheverly MD

Landholding Agency: Interior

Property Number: 61201210020

Status: Unutilized

Directions: 3601, 3603, 3605

Comments: Off-site removal only; sq. ft. varies; current use: residential; poor conditions—need extensive repairs

Michigan

B-780

Selfridge ANGB

Selfridge MI 48045

Landholding Agency: Air Force

Property Number: 18201210043

Status: Unutilized

Comments: Off-site removal only; 54,844 sq. ft.; current use: Admin. office; poor conditions—need repairs; lead based paint, asbestos, and mold identified

B-710

43901 Oak St.

Selfridge MI 48045

Landholding Agency: Air Force

Property Number: 18201210051

Status: Unutilized

Comments: Off-site removal only; 1,843 sq. ft.; current use: Admin. office; need repairs; asbestos possible

B-326

29865 Mitchell St.

Selfridge MI 48045

Landholding Agency: Air Force

Property Number: 18201210052

Status: Unutilized

Comments: Off-site removal only; 12,630 sq. ft.; current use: Admin. office; poor conditions—need repairs; possible asbestos

Missouri

Whiteman-Annex No.3

312 Northern Hill Rd.

Warrensburg MO 64093

Landholding Agency: GSA

Property Number: 54201210003

Status: Surplus

GSA Number: 7-D-MO-0694

Comments: 120 sq. ft.; current use: support bldg. for radio tower; previously reported by Air Force (18201020001)

New York

B-102

Rome Research Site

Rome NY 13441

Landholding Agency: Air Force

Property Number: 18201210046

Status: Unutilized

Comments: 23,408 sq. ft.; current use: office; fair condition; asbestos and lead based paint identified

South Carolina

B-1033

Shaw AFB

Sumter SC 29152

Landholding Agency: Air Force

Property Number: 18201210062

Status: Underutilized

Comments: 11,484 sq. ft.; current use: office; portion of facility is secured; will need prior permission before accessing; asbestos identified

Tennessee

B-675

Arnold AFB

Arnold TN 37389

Landholding Agency: Air Force

Property Number: 18201210080

Status: Underutilized

Comments: 17,589 sq. ft.; current use: lab and Admin. office; very poor conditions—need extensive repairs; transferee will be required to obtain a visitor's pass; Contact Air Force for further details.

Texas

2 Bldgs.

Sheppard AFB

Sheppard TX

Landholding Agency: Air Force

Property Number: 18201210067

Status: Unutilized

Directions: 248, 249

Comments: sq. ft. varies; current use: training; poor conditions—need repairs; asbestos possible; military escort will be required each time the property will need to be accessed

4 Bldgs.

Sheppard AFB

Sheppard TX

Landholding Agency: Air Force

Property Number: 18201210068

Status: Underutilized

Directions: 333, 332, 843, 980

Comments: sq. ft. varies; current use: Admin. offices; poor conditions—need repairs; asbestos possible; military escort will be required each time the property will need to be accessed

Fac. 981

Sheppard AFB

Sheppard TX

Landholding Agency: Air Force

Property Number: 18201210069

Status: Underutilized

Comments: 22,380 sf; current use: training classroom; poor conditions—need repairs; asbestos possible; military escort will be required each time the property will need to be accessed

Fac. 1624

Sheppard AFB

Sheppard TX

Landholding Agency: Air Force

Property Number: 18201210070

Status: Underutilized

Directions: Thrift Shop

Comments: 27,223 sf.; current use: thrift shop; poor conditions—need repairs; asbestos possible; military escort will be required each time the property will need to be accessed

Fac. 1638

Sheppard AFB

Sheppard TX

Landholding Agency: Air Force

Property Number: 18201210071

Status: Underutilized

Comments: 12,161 sf; current use: Admin. office; poor conditions—need repairs; asbestos possible; military escort will be required each time the property will need to be accessed

Fac. 1713

Sheppard AFB

Sheppard TX

Landholding Agency: Air Force

Property Number: 18201210072

Status: Unutilized

Comments: 1,395 sf; current use: latrine; poor conditions—need repairs; asbestos possible; military escort will be required each time the property will need to be accessed

Fac. 1715

Sheppard AFB

Sheppard TX

Landholding Agency: Air Force

Property Number: 18201210073

Status: Underutilized

Comments: 2,590 sf; current use: latrine; poor conditions—need repairs; asbestos possible; military escort will be required each time the property will need to be accessed

Fac. 2013

Sheppard AFB

Sheppard TX

Landholding Agency: Air Force

Property Number: 18201210074

Status: Unutilized

Directions: Tech. Trng. Lab/Shop

Comments: 25,091 sf.; current use: vacant; poor conditions—need repairs; asbestos possible; military escort will be required each time the property will need to be accessed

Fac. 247

Sheppard AFB

Sheppard TX

Landholding Agency: Air Force

Property Number: 18201210075

Status: Excess

Comments: 2,452 sf.; current use; vacant; poor conditions—need repairs; asbestos possible; military escort will be required each time the property will need to be accessed

Fac. 331

Sheppard AFB

Sheppard TX

Landholding Agency: Air Force

Property Number: 18201210076

Status: Underutilized

Comments: 18,295 sf.; current use: unknown; poor conditions—need repairs; asbestos possible; military escort will be required each time the property will need to be accessed

Fac. 250

Sheppard AFB

Sheppard TX

Landholding Agency: Air Force

Property Number: 18201210077

Status: Unutilized

Comments: 114 sf.; current use: vacant; poor conditions—need repairs; asbestos possible; military escort will be required each time the property will need to be accessed

Washington

Ran West Bunkhouse

418 Sikverbrook Rod.

Randle WA 98377

Landholding Agency: GSA

Property Number: 54201140007

Status: Excess

GSA Number: 9-A-WA-1258

Comments: Double wide trailer for off-site removal only; 960 sq. ft.; current use: bunkhouse; note: 60 day holding expires on or about March 26, 2012

Wisconsin

Wausau Army Reserve Ctr.

1300 Sherman St.

Wausau WI 54401

Landholding Agency: GSA

Property Number: 54201210004

Status: Excess

GSA Number: 1-D-WI-610

Comments: bldg. 12,680 sq. ft.; garage 2,676 sq. ft.; current use: vacant; possible asbestos; remediation may be required; property subjected to existing easements; Contact GSA for more details

Suitable/Available Properties

Land

California

Seal Beach RR Right of Way

West 19th Street

Seal Beach CA 90740

Landholding Agency: GSA

Property Number: 54201140015

Status: Surplus

GSA Number: 9-N-CA-1508-AF

Comments: 8,036.82 sq. ft.; current use: vacant lot

Seal Beach RR Right of Way

East 17th Street

Seal Beach CA 90740

Landholding Agency: GSA

Property Number: 54201140016

Status: Surplus

GSA Number: 9-N-CA-1508-AB

Comments: 9,713.88 sq. ft.; current use: private home

Seal Beach RR Right of Way

East of 16th Street

Seal Beach CA 90740

Landholding Agency: GSA

Property Number: 54201140017

Status: Surplus

GSA Number: 9-N-CA-1508-AG

Comments: 6,834.56 sq. ft.; current use: vacant

Seal Beach RR Right of Way

West of Seal Beach Blvd.

Seal Beach CA 90740

Landholding Agency: GSA

Property Number: 54201140018

Status: Surplus

GSA Number: 9-N-CA-1508-AA

Comments: 10,493.60 sq. ft.; current use: vacant lot

Suitable/Unavailable Properties

Building

Arkansas

99 Shore Court Structure

99 Shore Court

Hot Springs AR 71901

Landholding Agency: GSA

Property Number: 54201140010

Status: Surplus

GSA Number: 7-I-AR-0415-13

Comments: off-site removal only; 1,845 sq. ft.; current use: residential

132 Clubb Street Structure

132 Clubb Street

Hot Springs AR 71901

Landholding Agency: GSA

Property Number: 54201140014

Status: Surplus

GSA Number: 7-I-AR-0415-14

Comments: off-site removal only; 1,090 sq. ft.; current use: residential

Defense Fuel Support Pt.

Estero Bay Facility

Morro Bay CA 93442

Landholding Agency: GSA

Property Number: 54200810001

Status: Surplus

GSA Number: 9-N-CA-1606

Comments: former 10 acre fuel tank farm w/associated bldgs/pipelines/equipment, possible asbestos/PCBs

Former SSA Bldg.

1230 12th Street

Modesto CA 95354

Landholding Agency: GSA

Property Number: 54201020002

Status: Surplus

GSA Number: 9-G-CA-1610

Comments: 11,957 sq. ft., needs rehab/seismic retrofit work, potential groundwater contamination below site, potential flooding

Georgia

Fed. Bldg. Post Office/Court

404 N. Broad St.

Thomasville GA 31792

Landholding Agency: GSA

Property Number: 54201110006

Status: Surplus

GSA Number: 4-G-GA-878AA

Comments: 49,366 total sq. ft. Postal Svc currently occupies 11,101 sq. ft. through Sept. 30, 2012. Current usage: A gov't office, asbestos has been identified as well as plumbing issues

Idaho

Moscow Federal Bldg.

220 East 5th Street

Moscow ID 83843

Landholding Agency: GSA

Property Number: 54201140003

Status: Surplus

GSA Number: 9-G-ID-573

Comments: 11,000 sq. ft.; current use: office

Illinois

1LT A.J. Ellison

Army Reserve

Wood River IL 62095

Landholding Agency: GSA

Property Number: 54201110012

Status: Excess

GSA Number: 1-D-II-738

Comments: 17,199 sq. ft. for the Admin. Bldg., 3,713 sq. ft. for the garage, public space (roads and hwy) and utilities easements, asbestos and lead base paint identified most current use: unknown

Iowa

U.S. Army Reserve

620 West 5th St.

Garner IA 50438

Landholding Agency: GSA

Property Number: 54200920017

Status: Excess

GSA Number: 7-D-IA-0510

Comments: 5743 sq. ft., presence of lead paint, most recent use—offices/classrooms/storage, subject to existing easements

Maine

Columbia Falls Radar Site

Tibbetstown Road

Columbia Falls ME 04623

Landholding Agency: GSA

Property Number: 54201140001

Status: Excess

GSA Number: 1-D-ME-0687

Directions: Buildings 1, 2, 3, and 4

Comments: Four bldgs. totaling 20,375 sq.ft. each one-story; current use: varies among properties

Maryland

Appraisers Store

null

Baltimore MD 21202

Landholding Agency: GSA

Property Number: 54201030016

Status: Excess

GSA Number: 4-G-MD-0623

Comments: 169,801 sq. ft., most recent use—federal offices, listed in the Natl Register of Historic Places, use restrictions

Michigan

CPT George S. Crabbe USARC

2901 Webber Street

Saginaw MI

Landholding Agency: GSA

Property Number: 54201030018

Status: Excess

GSA Number: 1-D-MI-835

Comments: 3891 sq. ft., 3-bay garage maintenance building

Beaver Island High Level Site

South End Road

Beaver Island MI 49782

Landholding Agency: GSA

Property Number: 54201140002

Status: Excess

GSA Number: 1-X-MI-664B

Comments: 89 sq. ft; current use: storage; non-friable asbestos and lead base paint present; currently under license to the CCE Central Dispatch Authority

Minnesota

FAA Outer Marker

9935 Newton Ave.

Minneapolis MN 55431

Landholding Agency: GSA

Property Number: 54201120010

Status: Excess

GSA Number: 1-I-MN-594

Comments: Public space and utilities easements; 108 sq. ft.

Bldg. 921

W. Main St.

Paynesville MN

Landholding Agency: GSA

Property Number: 54201120017

Status: Excess

GSA Number: 1-D-MN-0591

Comments: Bldg: 5,486 sf, Land: 3.9 acres, current use: Admin./Training Facility

Missouri

Federal Bldg/Courthouse

339 Broadway St.

Cape Girardeau MO 63701

Landholding Agency: GSA

Property Number: 54200840013

Status: Excess

GSA Number: 7-G-MO-0673

Comments: 47,867 sq. ft., possible asbestos/lead paint, needs maintenance & seismic upgrades, 30% occupied—tenants to relocate within 2 yrs

Montana

Rising Sun Boat

St. Mary Lake Glacier Nat'l Park

St. Mary Lake MT 59911

Landholding Agency: GSA

Property Number: 54201130005

Status: Surplus

GSA Number: 7-I-MT-0544-3

Comments: Off-site removal only; 358 sq. ft.; recent use: ticket office

Kalispell Shop

1899 Airport Rd.

Kalispell MT 59901

Landholding Agency: GSA

Property Number: 54201130006

Status: Surplus

GSA Number: 7-A-MT-0632

Comments: Off-site removal only; 560 sq. ft.; recent use: storage bldg.

Boulder Admin. Site

12 Depot Hill Rd.

Boulder MT 59632

Landholding Agency: GSA

Property Number: 54201130016

Status: Excess

GSA Number: 7-A-MT-532-AA

Comments: 4,799 sq. ft.; recent use: office, repairs are needed

New Jersey

Camp Pedricktown Sup. Facility

US Route 130

Pedricktown NJ 08067

Landholding Agency: GSA

Property Number: 54200740005

Status: Excess

GSA Number: 1-D-NJ-0662

Comments: 21 bldgs., need rehab, most recent use—barracks/mess hall/garages/quarters/admin., may be issues w/right of entry, utilities privately controlled, contaminants

Ohio

Oxford USAR Facility

6557 Todd Road

Oxford OH 45056

Landholding Agency: GSA

Property Number: 54201010007

Status: Excess

GSA Number: 1-D-OH-833

Comments: office bldg./mess hall/barracks/simulator bldg./small support bldgs., structures range from good to needing major rehab

Belmont Cty Memorial USAR Ctr

5305 Guernsey St.

Bellaire OH 43906

Landholding Agency: GSA

Property Number: 54201020008

Status: Excess

GSA Number: 1-D-OH-837

Comments: 11,734 sq. ft.—office/drill hall; 2,519 sq. ft.—maint. shop

Army Reserve Center

5301 Hauserman Rd.

Parma OH 44130

Landholding Agency: GSA

Property Number: 54201020009

Status: Excess

GSA Number: I-D-OH-842

Comments: 29, 212, and 6,097 sq. ft.; most recent use: office, storage, classroom, and drill hall; water damage on 2nd floor; and wetland property

LTC Dwite Schaffner

U.S. Army Reserve Center

1011 Gorge Blvd.

Akron OH 44310

Landholding Agency: GSA

Property Number: 54201120006

Status: Excess

GSA Number: 1-D-OH-836

Comments: 25,039 sq. ft., most recent use: Office; in good condition

Oregon

3 Bldgs/Land

OTHR-B Radar

Cty Rd 514

Christmas Valley OR 97641

Landholding Agency: GSA

Property Number: 54200840003

Status: Excess

GSA Number: 9-D-OR-0768

Comments: 14,000 sq. ft. each/2626 acres, most recent use—radar site, right-of-way

U.S. Customs House

220 NW 8th Ave.

Portland OR

Landholding Agency: GSA

Property Number: 54200840004

Status: Excess

GSA Number: 9-D-OR-0733

Comments: 100,698 sq. ft., historical property/National Register, most recent use—office, needs to be brought up to meet earthquake code and local bldg codes, presence of asbestos/lead paint

Rhode Island

FDA Davisville Site

113 Bruce Boyer Street

North Kingstown RI 02852

Landholding Agency: GSA

Property Number: 54201130008

Status: Excess

GSA Number: 1-F-RI-0520

Comments: 4,100 sq. ft.; recent use: storage; property currently has no heating (all repairs are the responsibility of owner)

South Carolina

Naval Health Clinic

3600 Rivers Ave.

Charleston SC 29405

Landholding Agency: GSA

Property Number: 54201040013

Status: Excess

GSA Number: 4-N-SC-0606

Comments: Redetermination: 399,836 sq. ft., most recent use: office

South Dakota

Main House

Lady C Ranch Rd.

Hot Springs SD 57747

Landholding Agency: GSA

Property Number: 54201130011

Status: Surplus

GSA Number: 7-A-0523-3-AE

Comments: Off-site removal only; The property is a 2-story structure with 1,024 sq. ft. per floor for a total of 2,048 sq. ft.; structure type: Log Cabin; recent use: residential

Main Garage

Lady C Ranch Rd.

Hot Springs SD 57747

Landholding Agency: GSA

Property Number: 54201130012

Status: Surplus

GSA Number: 7-A-SD-0523-3-AF

Comments: Off-site removal only; 567 sq. ft.; structure type: Log Frame; recent use: vehicle storage

Metal Machine/Work Bldg.

Lady C Ranch Rd.

Hot Springs SD 57747

Landholding Agency: GSA

Property Number: 54201130013

Status: Surplus

GSA Number: 7-A-SD-0523-3-AG

Comments: Off-site removal only; 3,280 sq. ft.; structure type: Post/Pole w/Metal Siding; recent use: utility shed

Mobile Home

Lady C Ranch Rd.

Hot Springs SD 57477

Landholding Agency: GSA

Property Number: 54201130014

Status: Surplus

GSA Number: 7-A-0523-3-AH

Comments: Off-site removal only; 1,152 sq. ft.; structure type: manufactured home/double wide; recent use: residential

Mobile Home Garage

Lady C Ranch Rd.

Hot Springs SD 57747

Landholding Agency: GSA

Property Number: 54201130015

Status: Surplus

GSA Number: 7-A-SD-0523-3-AI

Comments: Off-site removal only; 729 sq. ft.; structure type: Post/Pole construction w/metal side; recent use: storage

Tennessee

NOAA Admin. Bldg.

456 S. Illinois Ave.

Oak Ridge TN 38730

Landholding Agency: GSA

Property Number: 54200920015

Status: Excess

GSA Number: 4-B-TN-0664-AA

Comments: 15,955 sq. ft., most recent use—office/storage/lab

Texas

FAA RML Facility

11262 N. Houston Rosslyn Rd.

Houston TX 77086

Landholding Agency: GSA

Property Number: 54201110016

Status: Surplus

GSA Number: 7-U-TX-1129

Comments: 448 sq. ft., recent use: storage, asbestos has been identified in the floor

Rattle Snake Scoring Ste.

1085 County Rd. 332

Pecos TX 79772

Landholding Agency: GSA

Property Number: 54201120005

Status: Excess

GSA Number: 7-D-TX-0604-AM

Comments: 8,396 sq. ft., most recent use: training ste., previously reported by Air Force, deemed “unsuitable” because property was in a secured area, and published in May 2009.

Virginia

Hampton Rds, Shore Patrol Bldg

811 East City Hall Ave

Norfolk VA 23510

Landholding Agency: GSA

Property Number: 54201120009

Status: Excess

GSA Number: 4-N-VA-758

Comments: 9,623 sq. ft.; current use: storage, residential

Suitable/Unavailable Properties

Land

Arizona

Land

95th Ave/Bethany Home Rd

Glendale AZ 85306

Landholding Agency: GSA

Property Number: 54201010014

Status: Surplus

GSA Number: 9-AZ-852

Comments: 0.29 acre, most recent use—irrigation canal

0.30 acre

Bethany Home Road

Glendale AZ 85306

Landholding Agency: GSA

Property Number: 54201030010

Status: Excess

GSA Number: 9-I-AZ-0859

Comments: 10 feet wide access road

California

Parcel F-2 Right of Way

null

Seal Beach CA 90740

Landholding Agency: GSA

Property Number: 54201030012

Status: Surplus

GSA Number: 9-N-CA-1508-AI

Comments: Correction: 631.62 sq. ft., encroachment

Drill Site #3A

null

Ford City CA 93268

Landholding Agency: GSA

Property Number: 54201040004

Status: Surplus

GSA Number: 9-B-CA-1673-AG

Comments: 2.07 acres, mineral rights, utility easements

Drill Site #4

null

Ford City CA 93268

Landholding Agency: GSA

Property Number: 54201040005

Status: Surplus

GSA Number: 9-B-CA-1673-AB

Comments: 2.21 acres, mineral rights, utility easements

Drill Site #6

null

Ford City CA 93268

Landholding Agency: GSA

Property Number: 54201040006

Status: Surplus

GSA Number: 9-B-CA-1673-AC

Comments: 2.13 acres, mineral rights, utility easements

Drill Site #9

null

Ford City CA 93268

Landholding Agency: GSA

Property Number: 54201040007

Status: Surplus

GSA Number: 9-B-CA-1673-AH

Comments: 2.07 acres, mineral rights, utility easements

Drill Site #20

null

Ford City CA 93268

Landholding Agency: GSA

Property Number: 54201040008

Status: Surplus

GSA Number: 9-B-CA-1673-AD

Comments: 2.07 acres, mineral rights, utility easements

Drill Site #22

null

Ford City CA 93268

Landholding Agency: GSA

Property Number: 54201040009

Status: Surplus

GSA Number: 9-B-CA-1673-AF

Comments: 2.07 acres, mineral rights, utility easements

Drill Site #24

null

Ford City CA 93268

Landholding Agency: GSA

Property Number: 54201040010

Status: Surplus

GSA Number: 9-B-CA-1673-AE

Comments: 2.06 acres, mineral rights, utility easements

Drill Site #26

null

Ford City CA 93268

Landholding Agency: GSA

Property Number: 54201040011

Status: Surplus

GSA Number: 9-B-CA-1673-AA

Comments: 2.07 acres, mineral rights, utility easements

Colorado

Common Pt. Shooting Rng.

Bureau of Reclamation

Drake CO 80515

Landholding Agency: GSA

Property Number: 54201120003

Status: Excess

GSA Number: 7-1-CO—0678

Comments: 35.88 acres; If the purchaser ceases using the property as a firing range they will be held to a higher standard of lead remediation by the local and Federal environmental protection agencies.

Louisiana

Almonaster

4300 Almonaster Ave.

New Orleans LA 70126

Landholding Agency: GSA

Property Number: 54201110014

Status: Surplus

GSA Number: 7-D-LA-0576

Comments: 9.215 acres

Massachusetts

FAA Site

Massasoit Bridge Rd.

Nantucket MA 02554

Landholding Agency: GSA

Property Number: 54200830026

Status: Surplus

GSA Number: MA-0895

Comments: approx 92 acres, entire parcel within MA Division of Fisheries & Wildlife Natural Heritage & Endangered Species Program

Nevada

RBG Water Project Site

Bureau of Reclamation

Henderson NV 89011

Landholding Agency: GSA

Property Number: 54201140004

Status: Surplus

GSA Number: 9-I-AZ-0562

Comments: water easement (will not impact conveyance); 22+/−acres; current use: water sludge disposal site; lead from shotgun shells on < 1 acre.

North Dakota

Vacant Land of MSR Site

Stanley Mickelsen

Nekoma ND

Landholding Agency: GSA

Property Number: 54201130009

Status: Surplus

GSA Number: 7-D-ND-0499

Comments: 20.2 acres; recent use: unknown

Pennsylvania

approx. 16.88

271 Sterrettania Rd.

Erie PA 16506

Landholding Agency: GSA

Property Number: 54200820011

Status: Surplus

GSA Number: 4-D-PA-0810

Comments: vacant land

Marienville Lot

USDA Forest Service

Marienville PA

Landholding Agency: GSA

Property Number: 54201140005

Status: Excess

GSA Number: 4-A-PA-807AD

Comments: 2.42 acres; current use: unknown

Texas

FAA

Directional Finder

Lampasas TX

Landholding Agency: GSA

Property Number: 54201120015

Status: Excess

GSA Number: 7-U-TX-1131

Comments: 1.51 acres

Parcel 2

Camp Bowie

Brownwood TX 76801

Landholding Agency: GSA

Property Number: 54201130001

Status: Surplus

GSA Number: 7-D-TX-0589

Comments: 22.58 acres, two storage units on land approx. 600 sq. ft., recent use: storage, legal constraints: access easement, 10% of property in floodway

Unsuitable Properties

Building

California

Vandenberg AFB

1982 Cuatro Rd.

Vandenberg AFB CA 93437

Landholding Agency: Air Force

Property Number: 18201210050

Status: Unutilized

Comments: national security concerns; no public access and no alternative method to gain access

Reasons: Secured Area

2 Bldgs.

Los Angeles AFB

ACJP CA

Landholding Agency: Air Force

Property Number: 18201210081

Status: Underutilized

Directions: 228, 285

Comments: nat'l security concerns; no public access and no alternative method to gain access

Reasons: Secured Area

Florida

Fac. 666

Eglin AFB

Eglin FL

Landholding Agency: Air Force

Property Number: 18201210040

Status: Underutilized

Comments: national security concerns; no public access and no alternative method to gain access

Reasons: Secured Area

6 Bldgs.

Cape Canaveral AFS

Cape Canaveral FL 32925

Landholding Agency: Air Force

Property Number: 18201210047

Status: Excess

Directions: 1794, 10911, 17704, 17781, 18805, 18806

Comments: national security concerns; no public access and no alternative method to gain access

Reasons: Secured Area

Fac. 727

Eglin AFB

Eglin AFB FL 32542

Landholding Agency: Air Force

Property Number: 18201210053

Status: Underutilized

Comments: national security concerns; no public access and no alternative method to gain access

Reasons: Secured Area

3 Bldgs.

Eglin AFB

Eglin FL

Landholding Agency: Air Force

Property Number: 18201210055

Status: Underutilized

Directions: 724, 725, 726

Comments: nat'l security concerns; no public access and no alternative to gain access

Reasons: Secured Area

4 Bldgs.

Eglin AFB

Eglin FL 32542

Landholding Agency: Air Force

Property Number: 18201210066

Status: Underutilized

Directions: 718, 1345, 1346, 3011

Comments: nat'l security concerns; no public access and no alternative method to gain access

Reasons: Secured Area

Idaho

5 Bldgs.

Mountain House AFB

Mountain House ID

Landholding Agency: Air Force

Property Number: 18201210057

Status: Excess

Directions: 2428, 2310, 2618, 2427, 2806

Comments: nat'l security concerns; no public access and no alternative method to gain access

Reasons: Secured Area

Illinois

Bldg. 262

VEJR

Mascoutah IL 62258

Landholding Agency: Air Force

Property Number: 18201210054

Status: Unutilized

Comments: Landlocked; can only be reached by crossing onto private property; there is no established rights/means of entry; owner will deny access

Reasons: Not accessible by road

Kansas

Fac. 2243

Military Family Housing

McConnell KS 67210

Landholding Agency: Air Force

Property Number: 18201210079

Status: Excess

Comments: National security concerns; no public access and no alternative method to gain access

Reasons: Secured Area

Louisiana

B-7136

Barksdale AFB

Barksdale LA 71110

Landholding Agency: Air Force

Property Number: 18201210063

Status: Unutilized

Comments: Nat'l security concerns; no public access and no alternative method to gain access

Reasons: Secured Area

Maryland

Martin State Airport

MD Air Nat'l Guard

Baltimore MD 21220

Landholding Agency: Air Force

Property Number: 18201210041

Status: Excess

Comments: Nat'l security concerns; no public access and no alternative method to gain access

Reasons: Secured Area

New Mexico

B-20752

Kirtland AFB

Kirtland AFB NM 87117

Landholding Agency: Air Force

Property Number: 18201210044

Status: Unutilized

Comments: National security concerns; no public access and no alternative method to gain access

Reasons: Secured Area

B-29099

Kirtland AFB

Kirtland AFB NM 87117

Landholding Agency: Air Force

Property Number: 18201210045

Status: Underutilized

Comments: National security concerns; no public access and no alternative method to gain access

Reasons: Secured Area

2 Bldgs.

Kirtland AFB

Kirtland AFB NM 87117

Landholding Agency: Air Force

Property Number: 18201210048

Status: Unutilized

Directions: 48058, 20754

Comments: National security concerns; no public access and no alternative method to gain access

Reasons: Secured Area

B-29040

84043 Lovelace Rd. SE

Kirtland AFB NM 87117

Landholding Agency: Air Force

Property Number: 18201210049

Status: Underutilized

Comments: National security concerns; no public access and no alternative method to gain access

Reasons: Secured Area

10 Bldgs.

Holloman AFB

Holloman NM 88330

Landholding Agency: Air Force

Property Number: 18201210056

Status: Unutilized

Directions: 1250, 1251, 1262, 1263, 816, 850, 909, 1166, 96, 629

Comments: Nat'l security concerns; no public access and no alternative method to gain access

Reasons: Secured Area

2 Bldgs.

Holloman AFB

Holloman NM 88330

Landholding Agency: Air Force

Property Number: 18201210058

Status: Unutilized

Directions: 1266, 1268

Comments: Nat'l security concerns; no public access and no alternative method to gain access

Reasons: Secured Area

South Carolina

2 Bldgs.

Shaw AFB

Sumter SC 29152

Landholding Agency: Air Force

Property Number: 18201210060

Status: Underutilized

Directions: 3419, 3423

Comments: Nat'l security concerns; no public access and no alternative method to gain access

Reasons: Secured Area

B-1501

Shaw AFB

Sumter SC 29152

Landholding Agency: Air Force

Property Number: 18201210061

Status: Underutilized

Comments: Nat'l security concerns; no public access and no alternative method to gain access

Reasons: Secured Area

B523

Shaw AFB

Sumter SC 29152

Landholding Agency: Air Force

Property Number: 18201210064

Status: Unutilized

Comments: Nat'l security concerns; no public access and no alternative method to gain access

Reasons: Secured Area

South Carolina

6 Bldgs.

Tinker Rd.

Bellows AFB SC

Landholding Agency: Air Force

Property Number: 18201210065

Status: Unutilized

Directions: 453, 454, 544, 801, 804, 806

Comments: Nat'l security concerns; no public access and no alternative method to gain access

Reasons: Secured Area

B-1713

Shaw AFB

Sumter SC 29152

Landholding Agency: Air Force

Property Number: 18201210078

Status: Underutilized

Comments: National security concerns; no public access and no alternative method to gain access

Reasons: Secured Area

Tennessee

B-1524 and B-2219

Arnold AFB

Arnold AFB TN 37389

Landholding Agency: Air Force

Property Number: 18201210042

Status: Underutilized

Comments: National security concerns; no public access and no alternative method to gain access

Reasons: Secured Area

Virginia

7 Bldgs.

Willow St.

Langley AFB VA 23665

Landholding Agency: Air Force

Property Number: 18201210059

Status: Underutilized

Directions: 141, 142, 143, 147, 148, 720, 1329

Comments: Nat'l security concerns; no public access and no alternative method to gain access

Reasons: Secured Area

Land

Virginia

8.5 Acres

Joint Expeditionary Base

Little Creek VA

Landholding Agency: Navy

Property Number: 77201210003

Status: Unutilized

Comments: National security concerns; no public access and no alternative method to gain access

Reasons: Secured Area

[FR Doc. 2012-6053 Filed 3-15-12; 8:45 am]

BILLING CODE 4210-67-P